DEPARTMENT OF ENERGY

Federal Energy Regulatory Commission

[Docket No. RP97-29-005]

Panhandle Eastern Pipe Line Company; Notice of Compliance Filing

August 1, 2002.

Take notice that on July 24, 2002, Panhandle Eastern Pipe Line Company (Panhandle) tendered for filing as part of its FERC Gas Tariff, First Revised Volume No. 1, the following revised tariff sheet to become effective August 24, 2002:

Second Revised Sheet No. 273A.

Panhandle states that this filing is being made to comply with the Commission's Letter Order dated July 9, 2002 in Docket No. RP97-29-004 which requires Panhandle to provide a time frame for responding to customers' requests for interconnection.

Panhandle states that copies of this filing are being served on all jurisdictional customers, interested state regulatory agencies and parties to this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. The Commission strongly encourages electronic filings. See 18 CFR 385.2001(a)(1)(iii) and the instructions on the Commission's web site under the “e-Filing” link.

Linwood A. Watson, Jr.,
Deputy Secretary.

[FR Doc. 02-19929 Filed 8-6-02; 8:45 am]

BILLING CODE 6717-01-P